DEPARTMENT OF VETERANS AFFAIRS

[OMB Control No. 2900-0662]

Agency Information Collection Activity Under OMB Review: Civil Rights Discrimination Complaint

AGENCY: Office of the Secretary, Department of Veterans Affairs.

ACTION: Notice.

SUMMARY: In compliance with the Paperwork Reduction Act (PRA) of 1995, this notice announces that the Office of the Secretary, Department of Veterans Affairs, will submit the collection of information abstracted below to the Office of Management and Budget (OMB) for review and comment. The PRA submission describes the nature of the information collection and its expected cost and burden, and it includes the actual data collection instrument.

DATES: Written comments and recommendations for the proposed information collection should be sent within 30 days of publication of this notice to www.reginfo.gov/public/do/PRAMain. Find this particular information collection by selecting “Currently under 30-day Review—Open for Public Comments” or by using the search function. Refer to “OMB Control No. 2900-0662.

FOR FURTHER INFORMATION CONTACT: VA PRA Information: Dorothy Glasgow, (202) 461-1084, VAPRA@va.gov.

SUPPLEMENTARY INFORMATION:

Title: Civil Rights Discrimination Complaint, VA Form 08-0381.

OMB Control Number: 2900-0662. https://www.reginfo.gov/public/do/PRASearch.

Type of Review: Revision of a currently approved collection.

Abstract: Veterans and other customers who believe that their civil rights were violated by agency employees while receiving medical care or services in VA medical centers, or institutions such as state home receiving federal financial assistance from VA, complete VA Form 08-0381 to file a formal complaint of the alleged discrimination.

An agency may not conduct or sponsor, and a person is not required to respond to a collection of information unless it displays a currently valid OMB control number. The Federal Register Notice with a 60-day comment period soliciting comments on this collection of information was published at 90 FR 52793, November 21, 2025.

Affected Public: Individuals or Households.

Estimated Annual Burden: 113 Hours.

Estimated Average Burden Per Respondent: 15 minutes.

Frequency of Response: On occasion.

Estimated Number of Respondents: 450.

Authority: 44 U.S.C. 3501 et seq.

By direction of the Secretary.
Dorothy Glasgow,
Acting VA PRA Clearance Officer, Office of Enterprise and Integration, Data Governance Analytics, Department of Veterans Affairs.

[FR Doc. 2026-04199 Filed 3-2-26; 8:45 am]

BILLING CODE 8320-01-P